DEPARTMENT OF ENERGY

Federal Energy Regulatory Commission

Combined Notice of Filings

Take notice that the Commission has received the following Natural Gas Pipeline Rate and Refund Report filings:

Filings Instituting Proceedings

Docket Numbers: RP08-306-000.

Applicants: Portland Natural Gas Transmission System.

Description: Portland Natural Gas Transmission System submits Refund Report in compliance with Ordering Paragraph (C) of Opinion No. 510-A.

Filed Date: 5/20/13.

Accession Number: 20130520-5166.

Comments Due: 5 p.m. ET 6/3/13.

Docket Numbers: RP13-922-000.

Applicants: Equitrans, L.P.

Description: Compliance Filing—Sunrise Retainage to be effective 7/1/2013.

Filed Date: 5/20/13.

Accession Number: 20130520-5024.

Comments Due: 5 p.m. ET 6/3/13.

Docket Numbers: RP13-923-000.

Applicants: Rockies Express Pipeline LLC.

Description: Neg Rate NC 2013-05-20 BP Energy to be effective 5/18/2013.

Filed Date: 5/20/13.

Accession Number: 20130520-5109.

Comments Due: 5 p.m. ET 6/3/13.

Docket Numbers: RP13-924-000.

Applicants: Gulf South Pipeline Company, LP.

Description: Consolidation of Firm Service Agmts filing to be effective 6/21/2013.

Filed Date: 5/21/13.

Accession Number: 20130521-5020.

Comments Due: 5 p.m. ET 6/3/13.

Docket Numbers: RP13-925-000.

Applicants: Questar Southern Trails Pipeline Company.

Description: Annual Fuel Gas Reimbursement Report of Questar Southern Trails Pipeline Company for 2013.

Filed Date: 5/21/13.

Accession Number: 20130521-5124.

Comments Due: 5 p.m. ET 6/3/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-455-003.

Applicants: Panhandle Eastern Pipe Line Company, LP.

Description: Compliance with RP12-455 Reservation Charge Credit to be effective 12/31/9998.

Filed Date: 5/20/13.

Accession Number: 20130520-5093.

Comments Due: 5 p.m. ET 6/3/13.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: May 22, 2013.
Nathaniel J. Davis, Sr.,
Deputy Secretary.

[FR Doc. 2013-12807 Filed 5-29-13; 8:45 am]

BILLING CODE 6717-01-P